DEPARTMENT OF ENERGY

Extension of Comment Period on the Draft Environmental Assessment for the Proposed Infrastructure Improvements for the Yucca Mountain Project, NV

AGENCY: U.S. Department of Energy.

ACTION: Notice of comment period extension.

SUMMARY: On July 6, 2006, the U.S. Department of Energy (DOE) published a Notice of Availability of the Draft Environmental Assessment for the Proposed Infrastructure Improvements for the Yucca Mountain Project, Nevada, (71 FR 38391) and announced a 30-day public comment period ending August 7, 2006. Subsequently, the DOE has taken note that the distribution letter attached to copies of the draft Environmental Assessment (EA) identified a different end date for the public comment period. Consequently, DOE is extending the public comment period until August 31, 2006.

DATES: Comments should be submitted to DOE no later than August 31, 2006. DOE will consider comments submitted after this date to the extent practicable.

ADDRESSES: Comments, or requests for copies of the draft EA, should be sent to Dr. Jane Summerson, EA Document Manager, United States Department of Energy, 1551 Hillshire Drive, Las Vegas, NV 89134. Requests for copies of the draft EA may also be made by calling 1-800-225-6972. The draft EA and electronic comment forms are available at http://www.ocrwm.doe.gov. Comments may also be faxed to 1-800-967-0739.

FOR FURTHER INFORMATION CONTACT: Dr. Jane Summerson, EA Document Manager, at the above address or at 1-800-225-6972.

Issued in Washington, DC, on August 1, 2006.
Paul M. Golan,
Principal Deputy Director, Office of Civilian Radioactive Waste Management.

[FR Doc. E6-12644 Filed 8-3-06; 8:45 am]

BILLING CODE 6450-01-P